DEPARTMENT OF TRANSPORTATION

Federal Aviation Administration

Sixty-Third Meeting: RTCA Special Committee 135, Environmental Conditions and Test Procedures for Airborne Equipment

AGENCY: Federal Aviation Administration (FAA), U.S. Department of Transportation (DOT).

ACTION: Meeting Notice of RTCA Special Committee 135, Environmental Conditions and Test Procedures for Airborne Equipment.

SUMMARY: The FAA is issuing this notice to advise the public of the Sixty-Third meeting of the RTCA Special Committee 135, Environmental Conditions and Test Procedures for Airborne Equipment.

DATES: The meeting will be held March 11-14, 2014 from 9:00 a.m. to 5:00 p.m.

ADDRESSES: The meeting will be held at Embry-Riddle University, 3700 Willow Creek Road, Prescott, AZ 86301-3720.

FOR FURTHER INFORMATION CONTACT: The RTCA Secretariat, 1150 18th Street NW., Suite 910, Washington, DC 20036, or by telephone at (202) 330-0652/(202) 833-9339, fax at (202) 833-9434, or Web site at http://www.rtca.org or Sophie Bousquet, sbousquet@rtca.org, 202-330-0663.

SUPPLEMENTARY INFORMATION: Pursuant to section 10(a)(2) of the Federal Advisory Committee Act (Pub. L. 92-463, 5 U.S.C., App.), notice is hereby given for a meeting of Special Committee 135. The agenda will include the following:

March 11-14

• Chairmen's Opening Remarks, Introductions.

• Introduce FAA Representative.

• Approval of Summary from the Sixty Second Meeting—(RTCA Paper No. 266-13/SC135-695).

• Review open proposal's for User's Guide's.

• Review Working Group Draft's.

• Introduction.

• Section 4, 5, 7, 8, 9, 10, 11, 15, 16, 20, 21, 22, 23, 26.

• Order of Test Clarification.

• DO160G Training/Content discussion.

• New/Unfinished Business.

• Errata Sheet.

• Schedule for Users Guide.

• Establish Date for Next SC-135 Meeting.

• Other Business.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 5, 2014.
Paige Williams,
Management Analyst, NextGen, Business Operations Group, Federal Aviation Administration.

[FR Doc. 2014-02922 Filed 2-10-14; 8:45 am]

BILLING CODE 4910-13-P